DEPARTMENT OF COMMERCE

Foreign-Trade Zones Board

[Order No. 1175]

Approval of Manufacturing Activity Within Foreign-Trade Zone 246 Waco, TX; Caterpillar Inc. (Construction Equipment)

Pursuant to its authority under the Foreign-Trade Zones Act of June 18, 1934, as amended (19 U.S.C. 81a-81u) (the Act), the Foreign-Trade Zones Board (the Board) adopts the following Order:

Whereas, the City of Waco (Texas), grantee of FTZ 246, has requested authority on behalf of Caterpillar Inc., to manufacture construction equipment under zone procedures within FTZ 246, Waco, Texas (filed 12-15-2000, FTZ Docket 69-2000);

Whereas, pursuant to § 400.32(b)(1), the Commerce Department's Assistant Secretary for Import Administration has the authority to act for the Board in making such decisions on new manufacturing/processing activity under certain circumstances, including situations where the proposed activity is the same, in terms of products involved, as activity recently approved by the Board and similar in circumstances (§ 400.32(b)(1)(i));

Whereas, the Board's Executive Secretary has determined that the application meets the criteria for review under § 400.32(b)(1)(i); and,

Whereas, the FTZ staff has reviewed the proposal, taking into account the criteria of § 400.31, and the Executive Secretary has recommended approval;

Now, therefore, the Assistant Secretary for Import Administration, acting for the Board pursuant to § 400.32(b)(1), concurs in the recommendation and hereby approves the request subject to the Act and the Board's regulations, including § 400.28.

Signed at Washington, DC, this 29th day of May 2001.
Faryar Shirzad,
Assistant Secretary of Commerce for Import Administration, Alternate Chairman, Foreign-Trade Zones Board.
Attest:
Dennis Puccinelli,
Executive Secretary.

[FR Doc. 01-14798 Filed 6-11-01; 8:45 am]

BILLING CODE 3510-DS-M